CORPORATION FOR NATIONAL AND COMMUNITY SERVICE

Proposed Information Collection; Comment Request

AGENCY: Corporation for National and Community Service.

ACTION: Notice.

SUMMARY: The Corporation for National and Community Service (hereinafter the “Corporation”), as part of its continuing effort to reduce paperwork and respondent burden, will submit the following public information collection request (ICR) to the Office of Management and Budget (OMB) for review and approval in accordance with the Paperwork Reduction Act of 1995 (Public Law 104-13, (44 U.S.C. Chapter 35)). The Corporation is soliciting from members of the public and affected agencies comments concerning the proposed collection of information.

Currently, the Corporation is soliciting comments concerning a new information collection for the annual State Profiles and Performance Report. The Corporation proposes to conduct an annual data collection request from State Service Commissions to gather information on AmeriCorps member service activity not available in current agency data systems.

Copies of the information collection request can be obtained by contacting the office listed below in the ADDRESSES section of this notice.

DATES: Written comments must be submitted to the office listed in the ADDRESSES section by March 29, 2005.

ADDRESSES: You may submit comments, identified by the title of the information collection activity, by any of the following methods:

(1) By mail sent to: Corporation for National and Community Service, Attn: Kelly Arey, Department of Research and Policy Development, Rm 8100, 1201 New York Avenue, NW., Washington, DC, 20525.

(2) By hand delivery or by courier to the Corporation's mailroom, Room 6010, at the mail address given in paragraph (1) above, between 9 a.m. and 4 p.m., Monday through Friday, except Federal holidays.

(3) By fax to: 202-565-2785, Attn: Kelly Arey.

(4) Electronically through the Corporation's e-mail address system: karey@cns.gov.

(5) Individuals who use a telecommunications device for the deaf (TTY-TDD) may call (202) 565-2799 between 8:30 a.m. and 5 p.m. Eastern time, Monday through Friday.

SUPPLEMENTARY INFORMATION: The Corporation is particularly interested in comments which:

• Evaluate whether the proposed collection of information is necessary for the proper performance of the functions of the Corporation, including whether the information will have practical utility;

• Evaluate the accuracy of the agency's estimate of the burden of the proposed collection of information, including the validity of the methodology and assumptions used;

• Enhance the quality, utility and clarity of the information to be collected; and

• Minimize the burden of the collection of information to those who are to respond, including through the use of appropriate automated, electronic, mechanical, or other technological collection techniques or other forms of information technology, e.g. permitting electronic submissions of responses.

Background: The Corporation is strongly committed to evaluating the effectiveness of its programs. The State Profiles and Performance Report presents performance results achieved by the Corporation for National and Community Service programs. The Corporation presents performance data on its programs annually; however, the State Profiles and Performance Report is the Corporation's first comprehensive effort at presenting disaggregated performance data by state and program. This data collection effort will use e-mail and telephone correspondence to solicit information annually from State Service Commissions about the programs in their portfolio, including competitive, formula, and commission Education Award Only Programs.

Type of Review: New collection.

Agency: Corporation for National and Community Service.

Title: State Profiles and Performance Report.

OMB Number: None.

Agency Number: None.

Affected Public: State government and not-for-profit institutions.

Total Respondents: 52.

Frequency: Annually.

Average Time Per Response: 20 hours.

Estimated Total Burden Hours: 1,040 hours.

Total Burden Cost (Capital/Startup): None.

Total Burden Cost (Operating/Maintenance): None.

Comments submitted in response to this notice will be summarized and/or included in the request for Office of Management and Budget approval of the information collection request; they will also become a matter of public record.

Dated: January 14, 2005.
Robert Grimm,
Director, Department of Research and Policy Development.

[FR Doc. 05-1563 Filed 1-27-05; 8:45 am]

BILLING CODE 6050-$$-P